NATIONAL ARCHIVES AND RECORDS ADMINISTRATION

[NARA-2020-0045]

Freedom of Information Act (FOIA) Advisory Committee; Solicitation for Committee Member Nominations

AGENCY: Office of Government Information Services (OGIS), National Archives and Records Administration (NARA).

ACTION: Notice.

SUMMARY: The National Archives and Records Administration (NARA) seeks member nominations for the Freedom of Information Act (FOIA) Advisory Committee (Committee).

DATES: We must receive nominations for Committee membership no later than 5:00 p.m. EDT on Thursday, July 2, 2020.

ADDRESSES: Email nominations to OGIS at foia-advisory-committee@nara.gov. We cannot accept submissions by mail or delivery during this time period because the building is closed due to COVID-19 restrictions. If you are unable to submit by email, please contact Kirstin Mitchell at the contact information below.

FOR FURTHER INFORMATION CONTACT: Kirsten Mitchell by phone at 202.741.5775 or by email at foia-advisory-committee@nara.gov.

SUPPLEMENTARY INFORMATION:

I. Background

The National Archives and Records Administration (NARA) established the Freedom of Information Act (FOIA) Advisory Committee in accordance with the United States Second Open Government National Action Plan, released on December 5, 2013, and operates under the directive in FOIA, 5 U.S.C. 552(h)(2)(C), that the Office of Government Information Services (OGIS) within NARA “identify procedures and methods for improving compliance” with FOIA. The Committee is governed by the provisions of the Federal Advisory Committee Act, as amended, 5 U.S.C. App.

II. Charter and Membership Appointment Terms

NARA initially chartered the Committee on May 20, 2014. The Archivist of the United States renewed the Committee's charter for a fourth term in May 2020 and certifies that renewing the Committee is in the public interest. Member appointment terms run for two years, concurrent with the Committee charter.

III. Committee Membership

The 2020-2022 FOIA Advisory Committee will consist of no more than 20 individuals who will include a range of Government and non-Government representatives. Members are selected in accordance with the charter.

Government members will include, at a minimum: Three FOIA professionals from Cabinet-level Departments; three FOIA professionals from non-Cabinet agencies; the director of the Department of Justice's Office of Information Policy or his/her designee; and the Director of OGIS or his/her designee.

Non-Governmental members will include, at a minimum: Two individuals representing the interests of non-Governmental organizations that advocate on FOIA matters; one individual representing the interests of FOIA requesters who qualify for the “all other” FOIA requester fee category; one individual representing the interests of requesters who qualify for the “news media” FOIA requester fee category; one individual representing the interests of requesters who qualify for the “commercial” FOIA requester fee category; one individual representing the interests of historians and history-related organizations; and one individual representing the interests of academia.

IV. Committee Members' Responsibilities

All Committee members are expected to attend a minimum of eight in-person or virtual public meetings during the two-year Committee term. All Committee members are expected to volunteer for one or more working subcommittees that will meet at various times during the two-year term. The first meeting of the 2020-2022 Committee term is scheduled for Thursday, September 10, 2020, and will be conducted virtually.

V. Nomination Information

All nominations for Committee membership must include the following information:

1. If you are self-nominating: Your name, title, relevant contact information (including telephone and email address), and the representative role for which you wish to be considered;

2. If you are nominating another individual: The nominee's name, title, and relevant contact information, and the Committee position for which you are submitting the nominee;

3. For both self-nominations and nominations by other individuals: (a) A short paragraph or biography about the nominee (fewer than 250 words), summarizing their resumé or otherwise highlighting the contributions the nominee would bring to the Committee; and (b) the nominee's resumé or curriculum vitae.

The Archivist of the United States will review the nominations and make final appointments prior to the first Committee meeting in September. OGIS will notify nominees the Archivist selects in writing.

Maureen Macdonald,
Designated Committee Management Officer.

[FR Doc. 2020-12283 Filed 6-5-20; 8:45 am]

BILLING CODE 7515-01-P